DEPARTMENT OF DEFENSE

Office of the Secretary

[Docket ID DoD-2010-OS-0087]

Proposed Collection; Comment Request

AGENCY: Office of the Under Secretary of Defense (Personnel and Readiness), DOD.

ACTION: Notice.

SUMMARY: In compliance with section 3506(c)(2)(A) of the Paperwork Reduction Act of 1995, the Office of the Under Secretary of Defense (Personnel and Readiness) announces the following proposed public information collection and seeks public comment on the provisions thereof. Comments are invited on: Whether the proposed collection of information is necessary for the proper performance of the functions of the agency, including whether the information shall have practical utility; the accuracy of the agency's estimate of burden of the proposed information collection; ways to enhance the quality, utility, and clarity of the information to be collected; and ways to minimize the burden of the information collection on respondents, including the use of automated collection techniques or other forms of information technology.

DATES: Consideration will be given to all comments received by August 30, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity, (Security and Safety Office), ATTN: Ms. Rose Chunik, 4040 North Fairfax Drive, Arlington, VA 22203, or call (703) 588-3251.

Title, Associated Form, and OMB Control Number: Department of Defense Education Activity School Volunteer Application; DoDEA Form 4700.3-F1; OMB Number 0704-TBD.

Needs and Uses: This information collection requirement is necessary to determine if a school volunteer applicant is suitable for a position involving extensive, frequent, or recurring unsupervised interaction with a student or students under the age of 18. Information will be used by school administrators as volunteers move between Department of Defense Education Schools and school districts world-wide.

Affected Public: Individuals or households.

Annual Burden Hours: 50 hours.

Number of Respondents: 150.

Responses per Respondent: 1.

Average Burden per Response: 20 minutes.

Frequency: One-time. Filling out a new application only occurs when a volunteer changes from one school to another school or if the volunteer has a 2-year break in school volunteer service.

SUPPLEMENTARY INFORMATION:

Summary of Information Collection

Information collection is necessary to determine if a school volunteer applicant is suitable for a position involving extensive, frequent, or recurring unsupervised interaction with a student or students under the age of 18. The DoDEA Form 4700.3-F1, “School Volunteer Application,” records the name, SSN, address, phone numbers, and e-mail address of the school volunteer applicant, and name and SSN of their sponsor. The DoDEA Form 4700.3-F1 also records the school volunteer's selection of volunteer position(s) they are interested in, questions inquiring about their experience, and two specific questions required in accordance with Public Law 101-647, section 231. Data collected on this form is required to allow U.S. military installations world-wide to conduct the required background check (i.e. base and/or military police local files checks, Drug and Alcohol Program, Family Housing, Medical Treatment Facility for Family Advocacy Program Service Central Registry records and mental health records, and any other record checks as appropriate to the extent permitted by law).

Dated: June 28, 2010.
Mitchell S. Bryman,
Alternate OSD Federal Register Liaison Officer, Department of Defense.

[FR Doc. 2010-16006 Filed 6-30-10; 8:45 am]

BILLING CODE 5001-06-P